DEPARTMENT OF LABOR

Employment and Training Administration

[TA-W-58,391]

John Crane, Inc., Vandalia, IL; Notice of Termination of Investigation

Pursuant to Section 221 of the Trade Act of 1974, as amended, an investigation was initiated on November 22, 2005 in response to a petition filed on behalf of workers at John Crane, Inc., Vandalia, Illinois.

The petitioners, separated from employment in July 2005, indicated that the plant closed in August 2005. A review of petition certifications determined that the petitioners are covered by a certification, TA-W-53,322, that did not expire until November 12, 2005.

Consequently, further investigation in this case would serve no purpose, and the investigation has been terminated.

Signed at Washington, DC this 24th day of January, 2006.
Linda G. Poole,
Certifying Officer, Division of Trade Adjustment Assistance.

[FR Doc. E6-1493 Filed 2-2-06; 8:45 am]

BILLING CODE 4510-30-P